NUCLEAR REGULATORY COMMISSION

[NRC-2009-0166]

Final Regulatory Guide: Issuance, Availability

AGENCY: Nuclear Regulatory Commission.

ACTION: Notice of Issuance and Availability of Regulatory Guide (RG) 1.65, Revision 1, “Materials and Inspections for Reactor Vessel Closure Studs.”

FOR FURTHER INFORMATION CONTACT: Wallace Norris, U.S. Nuclear Regulatory Commission, Washington, DC 20555-0001, telephone: (301) 251-7650 or e-mail Wallace.Norris@nrc.gov.

SUPPLEMENTARY INFORMATION:

I. Introduction

The U.S. Nuclear Regulatory Commission (NRC) is issuing a guide in the agency's “Regulatory Guide” series. This series was developed to describe and make available to the public information such as methods that are acceptable to the NRC staff for implementing specific parts of the agency's regulations, techniques that the staff uses in evaluating specific problems or postulated accidents, and data that the staff needs in its review of applications for permits and licenses.

RG 1.65, Revision 1, “Materials and Inspections for Reactor Vessel Closure Studs,” was issued with a temporary identification as Draft Regulatory Guide, DG-1211. General Design Criterion (GDC) 1, “Quality Standards and Records,” of Appendix A, “General Design Criteria for Nuclear Power Plants,” to Title 10, of the Code of Federal Regulations, part 50, “Domestic Licensing of Production and Utilization Facilities” (10 CFR part 50), requires, in part, that “[s]tructures, systems, and components important to safety shall be designed, fabricated, erected, and tested to quality standards commensurate with the importance of the safety function to be performed. Where generally recognized codes and standards are used, they shall be identified and evaluated to determine their applicability, adequacy, and sufficiency and shall be supplemented or modified as necessary to ensure a quality product in keeping with the required safety function.”

GDC 30, “Quality of Reactor Coolant Pressure Boundary,” requires, in part, that “[c]omponents that are part of the reactor coolant pressure boundary shall be designed, fabricated, erected, and tested to the highest practical quality standards.”

GDC 31, “Fracture Prevention of Reactor Coolant Pressure Boundary,” requires, in part, that “[t]he reactor coolant pressure boundary shall be designed with sufficient margin to assure that when stressed under operating, maintenance, testing, and postulated accident conditions (1) the boundary behaves in a nonbrittle manner and (2) the probability of rapidly propagating fracture is minimized.”

Appendix B, “Quality Assurance Criteria for Nuclear Power Plants and Fuel Reprocessing Plants,” to 10 CFR part 50 requires, in part, that “[m]easures be established to assure that special processes, including welding, heat treating, and nondestructive testing, are controlled and accomplished by qualified personnel using qualified procedures in accordance with applicable codes, standards, specifications, criteria, and other special requirements.”

II. Further Information

In April 2009, DG-1211 was issued for public comment. The public comment period closed on June 12, 2009. The staff's responses to the public comments received are located in the NRC's Agencywide Documents Access and Management System under Accession Number ML092050752. Electronic copies of RG 1.65, Revision 1 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 8 day of April, 2010.
For the Nuclear Regulatory Commission.
Andrea D. Valentin,
Chief, Regulatory Guide Development Branch, Division of Engineering, Office of Nuclear Regulatory Research.

[FR Doc. 2010-8650 Filed 4-14-10; 8:45 am]

BILLING CODE 7590-01-P